AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning:(a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before December 7, 2010.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

ADDRESSES: Send comments via e-mail at lwalker@usaid.gov or mail comments to: Linda Walker, Bureau for Economic Growth, Agriculture and Trade, Office of Education, Participant Training Team, United States Agency for International Development, Ronald Reagan Building, 1300 Pennsylvania Avenue, NW., Washington, DC 20523 (202) 712-1786.

SUPPLEMENTARY INFORMATION:

OMB No: OMB 0412-New.

Form No.: N/A.

Title: USAID Visa Compliance System (VCS).

Type of Review: New Information Collection.

Purpose: The U.S. Agency for International Development, under the Foreign Assistance Act of 1961, as amended, engages in a broad range of sustainable economic assistance activities that provide technical and academic training in the United States and abroad for foreign nationals. These foreign nationals have been selected for training by USAID in order to advance U.S. foreign policy objectives by supporting: Economic growth, agriculture and trade; global health; and democracy, conflict prevention, and humanitarian assistance. Training can consist of long-term academic degree programs, short-term technical courses, seminars, workshops, or other learning activities intended to impart certain knowledge and information.

USAID must track training data for all foreign nationals who receive training funded by USAID. In cases where foreign nationals must travel to the U.S. to participate in training or invitational travel, the approvals for the eligibility to obtain the J visa are captured in the Visa Compliance System (VCS). The Visa Compliance system has two purposes: first, to secure a J-1 visa for these foreign nationals traveling to the U.S.; second, to enable USAID to be in compliance with external requirements of the Department of Homeland Security. With certain exceptions, the foreign nationals that USAID sponsors for travel to the U.S. are considered exchange visitors. The VCS provides an audit trail regarding each exchange visitor, his or her training program or circumstances, as well as other relevant documentation.

Annual Reporting Burden:

Respondents: 600.

Total annual responses: 8,000.

Total annual hours requested: 2,000 hours.

Dated: September 27, 2010.
Marilyn Collins,
Acting Director, Office of Administrative Services, Bureau for Management.

[FR Doc. 2010-25022 Filed 10-7-10; 8:45 am]

BILLING CODE 6116-01-M